DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of April and May 2004.

In order for an affirmative determination to be made and a certification of eligibility to apply for directly-impacted (primary) worker adjustment assistance to be issued, each of the group eligibility requirements of section 222(a) of the Act must be met.

I. Section (a) (2) (A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a) (2) (B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (No shift in production to a foreign country) have not been met.

TA-W-54,506; Sanford Pattern Works, Inc., Taylor, MI;

TA-W-53,521; Wil-Mort Metals, Inc., Fort Payne, AL;

TA-W-54,638 & A; Spartech Polycom, Inc., Danora Plant 1, Compounding Div., a subsidiary of Spartech Corp., Danora, PA and Danora Plant 2, Danora, PA;

TA-W-54,675; Royal Vendors, Inc., Kearneysville, WV;

TA-W-54,604; Penn Ventilation, Air System Components, LP, Junction, KY;

TA-W-54,755; Textile Sales & Repair, Inc., Gastonia, NC;

TA-W-54,436; Thomson Broadcast and Media Solutions, Inc., AKA Thomson Grass Valley, a subsidiary of Thompson, Inc., Customer Service Organization, Nevada City, CA;

TA-W-54,779; Morgan Adhesives Co., a subsidiary of Bemis Company, Inc., North Las Vegas, NE;

TA-W-54,559; Cequent Trailer Products, formerly Hammerblow Corp., Wausau, WI;

TA-W-54,484; Cady Industries, Inc, Pearson, GA;

TA-W-54,275; Smith Meter, Inc., (Also known as FMC Measurement Solutions), a subsidiary of FMC Technologies, Inc., Erie, PA;

TA-W-54,432; American Hofmann Corp., a subsidiary of Hofmann Mondial, Inc., Lynchburg, VA;

TA-W-54,239; Heartland Rig International LLC, Brady, TX;

TA-W-54,618; Dayton Technologies, Wilmington, DE;

TA-W-54,239; Heartland Rig International, LLC, Brady, TX;

TA-W-54,713; Indiana Die Molding LLC, Fort Wayne, IN;

TA-W-54,487; Maple Mountain Industries, Inc., Meyersdale, PA;

TA-W-54,524; Straitoplane, Inc., Grand Rapids, MI;

TA-W-54,624; Belarus Tractor International, Milwaukee, WI;

TA-W-54,525; ADM Milling Co., including leased workers of Cornwell Staffing Services, D.C. Staffing Services and Crown Services, Inc., Milwaukee, WI;

TA-W-54,574; Morgan Construction Co., Worcester, MA;

TA-W-54,733; Bridges Hosiery Mill, Hildebran, NC;

TA-W-54,705; Ozark Iron Works, LLC, (formerly known as Calico Rock Iron Works, Inc.), a div. of Sommer Metalcraft, Calico Rock, AR;

TA-W-54,763; Peterson Spring Co., a subsidiary of Peterson American Corp., Greenville, IL;

TA-W-54,681; 5 B's, Inc., Cut and Dew Div., Barnesville, OH;

TA-W-54,455; Weirton Steel Corp., Weirton, WV;

TA-W-54,045D; United States Steel Corp., Gary Works, Sheet Products Div., Gary, IN;

TA-W-54,045F; United States Steel Corp., Gary Works, Plate Products Div., Gary, IN.

The workers firm does not produce an article as required for certification under section 222 of the Trade Act of 1974.

TA-W-54,572; GE Consumer Finance Americas, a subsidiary of GE Capital Corp., Canton, OH;

TA-W-54,684; Keane, Inc., Montpelier, VT;

TA-W-54,801; Three Rivers Warehouse, Muskogee, OK;

TA-W-54,653; Affina, Information Technology Department, Peoria, IL;

TA-W-54,650; Wright Express LLC, a subsidiary of The Cendant Corp., Technical Services Div., Quality Assurance Department, South Portland, ME;

TA-W-54,875; Thomson, Inc., American Tube Operations, Dunmore, PA;

TA-W-54,770 & A; Motorola, Inc., PCS GSM Group, Boynton Beach, FL and 3G Group, Boynton Beach, FL;

TA-W-54,406; Peagasus Solutions, Inc., Unirez Facility, Grapevine, TX;

TA-W-54,501; AT&T Aireless Services, Bothell 10 Facility, a div. of AT&T Wireless, Bothell, WA;

TA-W-54,628; Straightline Source, Inc., a div. of United States Steel Corp., Pittsburgh, PA;

TA-W-54,550; Union Switch & Signal, Inc., Pittsburgh, PA;

TA-W-54,593; Meridian Health Care Management, Woodland Hills, CA;

TA-W-54,598; Computer Sciences Corp., Technology Management Group, Nortel Networks Account, Research Triangle Park, NC;

TA-W-54,594; XO California, Inc., a wholly owned subsidiary of XO Communications, Inc., Santa Ana, CA;

TA-W-54,641; Flynt Fabrics, Inc., Burlington, NC;

TA-W-54,648; A.I.G. American General Finance, a subsidiary of American International Group, Dallas, TX;

TA-W-54,660; Rotary International, World Headquarters, IT Department, Evanston, IL;

TA-W-54,542; The Swatch Group (US), Inc., including leased workers of Spherion, Lancaster, PA;

TA-W-54,402; Alcatel, Allen, TX;

TA-W-54,468; Trans Union LLC, Crum Lynne, PA;

TA-W-54,471; Circuit City, Martinsville, VA;

TA-W-54,365; Greenpoint Bank, Lake Success, NY;

TA-W-54,692; The Bank of New York, NY, NY;

TA-W-54,702; Travelocity, Clintwood, VA;

TA-W-54,704; West Telemarketing Corp. Outbound, Smith, AR;

TA-W-54,771; The Penn Traffic Co., Syracuse, NY;

TA-W-54,717; Harris Interactive, Inc., Data Collection Services, Rochester, NY;

TA-W-54,546; United Services Automobile Association Property and Casualty Insurance, Western Regional Office, a div. of The United Services Automobile Association, Sacramento, CA;

TA-W-54,570; Imperial Home Décor Group Holdings, Inc., Knoxville, TN;

TA-W-54,587; Ness U.S.A., Inc., Hackensack, NJ;

TA-W-54,621; Western, a div. of W.P. Industries, Norwalk, CA;

TA-W-54,622; Henderson Sewing Machine Co., Andalusia, AL;

TA-W-54,623; Piedmont Sewing Machine and Supply Corp., Pittsburgh, PA;

TA-W-54,330; Allied Holdings, Inc., Decatur, GA;

TA-W-54,536; Acorn Products Co., Inc., Bridgton, ME;

TA-W-54,626; Distribution Dynamics, Inc., Portland, OR;

TA-W-54,502; Goodrich Corp., Englewood, NJ;

TA-W-54,600; Measurement Specialties, Inc., Consumer Products Div., Fairfield, NJ;

TA-W-54,649; Cigna Healthcare, IT Software Development and Support Div., Hooksett Facility, a div. of The Cigna Corp., Hooksett, NH;

TA-W-54,375; International Paper Co., Atlantic Region Forest Resources Div., Georgetown, SC;

TA-W-54,431; Dexter Shoe Co., Dexter Maine Plant, Dexter, ME;

TA-W-54,794; Imperial Home Décor, Beachwood, OH;

TA-W-54,343; Kenneth Cole Services, Inc., a div. of Kenneth Cole Productions, Inc., Secaucus, NJ;

TA-W-54,395; Great Lakes Gas Transmission Co., Troy, MI;

TA-W-54,421; Sykes Enterprises, Inc., Ada, OK;

TA-W-54,785; AVX Corp., Advance Planning Administration, Myrtle Beach, SC;

TA-W-54,802; New Roads, Inc., Martinsville, VA;

TA-W-54,762; IntelliRisk Management, Inc., Cedar Falls, IA.

The investigation revealed that criterion (a)(2)(A)(I.A) (no employment decline) has not been met.

TA-W-54,451; Meadowcraft, Inc., Birmingham, AL;

TA-W-54,674; Major League, Inc., Mount Airy, NC;

TA-W-54,683; USAKNIT, Inc., Fort Payne, AL;

TA-W-54,678; C and L Custom Tooling, LLC, Clackamas, OR;

TA-W-54,526; Elder Manufacturing Co., Inc., Dexter Facility, Dexter, MO.

The investigation revealed that criteria (2) has not been met. The workers firm (or subdivision) is not a supplier or downstream producer to trade-affected companies.

TA-W-54,718; Yazoo Industries, a subsidiary of Hood Cable Co., Yazoo City, MS.

The investigation revealed that criteria (a)(2)(A) (I.B) (Sales or production, or both, did not decline) and (a)(2)(B)(II.B) (has shifted production to a country not under the free trade agreement with U.S.) have not been met.

TA-W-54,739; Robert Bosch Corp., Automotive Chassis Div., St. Joseph, MO;

TA-W-54,453; Agilent Technologies, Inc., Manufacturing Test Business Unit, Loveland, CO;

TA-W-54,112; Allegheny Technologies, Inc., Allvac Div., Monroe, NC.

The investigation revealed that criteria (a)(2)(A) (I.C) (increased imports) and (a)(2)(B)(II.C) (has shifted production to a foreign country) have not been met.

TA-W-54,633; Philips Consumer Electronics, Business Creation for Projection Television Div., Knoxville, TN.

The investigation revealed that criteria (a)(2)(A)(I.A) (no employment decline) and (a)(2)(A)(I.B) (Sales or production, or both, did not decline have not been met.

TA-W-54,670; Pioneer Americas LLC, Henderson Plant, Henderson, NV;

TA-W-54,646; Advanced Glassfiber Yarns, LLC, (Also known as AGY Huntingdon, LLC), a div. of AGY Holdings, South Hill, VA.

Affirmative Determinations for Worker Adjustment Assistance

The following certifications have been issued; the date following the company name and location of each determination references the impact date for all workers of such determination.

The following certifications have been issued. The requirements of (a)(2)(A) (increased imports) of section 222 have been met.

TA-W-54,520; Freeport Brick Co., Freeport, PA: February 17, 2003.

TA-W-54,625; SGL Carbon, LLC, Graphite Specialty, St. Marys, PA: May 29, 2004.

TA-W-54,699; Coyuchi, Inc., Piedmont, SC: March 26, 2003.

TA-W-54,540; Cajah Corp., Hudson, NC: March 17, 2003.

TA-W-54,724; All About Lollipops, Inc., a subsidiary of Maredy Candy Co., Boise, ID: April 9, 2003.

TA-W-54,661; Gordon Garment, Div. of AH Schreiber Co., Inc., Bristol, VA: March 23, 2003.

TA-W-54,591; Palco Labs, Santa Cruz, CA: March 16, 2003.

TA-W-54,588; Velcorex, Inc., a div. of Dollus Mieg Co., Inc. (DMC), Orangeburg, SC: March 18, 2003.

TA-W-54,637; Rice Mills, Inc., Belton, SC: March 31, 2003.

TA-W-54,605; Lithonia Lighting, ESG Div., subsidiary of Acuity Brands, Decatur, GA: March 16, 2003.

TA-W-54,478; Great Years Garment, San Francisco, CA: March 2, 2003.

TA-W-54,254; Newstech NY, Inc., Deferiet, NY: February 11, 2003.

TA-W-54,478; Great Years Garment, San Francisco, CA: March 2, 2003.

TA-W-54,575; Timken U.S. Corp., Industrial Div., formerly known as Torrington/Ingersoll Rand, Rutherfordton, NC: March 19, 2003.

TA-W-54,045; United Steel Corp., Gary Works, Coke Products Div., Gary, IN, A; Gary Works, Iron Producing Div., Gary, IN, B; Gary Works, Steel Producing Div., Gary, IN, C; Gary Works, Hot Rolling Div., Gary, IN, E; Gary Works, Gary Tin Div., Gary, IN, G; Gary Works, Operations Services Div., Gary, IN, H; Gary Works, Staff Group, Gary, IN, I; Gary Works, Administrative Div., Gary, IN and J; East Chicago Tin, East Chicago, IN: January 16, 2003.

TA-W-54,408; Morganite, Inc., Commutator Div., Dunn, NC: February 16, 2003.

TA-W-54,410; Eplus Technology, Inc., a subsidiary of Eplus, Inc., Workers at Corning, Inc., Wilmington, NC: March 3, 2003.

TA-W-54,721; Sulzer Process Pumps, Inc., SPPUS Div., Easley, SC: March 18, 2003.

TA-W-54,391; Quad Tool and Design, Inc., Kewaskum, WI: March 1, 2003.

TA-W-54,491; Art Craft Optical Co., Inc., Rochester, NY: February 19, 2003.

TA-W-54,707; Quincy Products, a div. of Valley Industries, Inc., Quincy, MI: April 8, 2003.

TA-W-54,452; A.E. Nathan Co., Inc., a div. of Jaftex Corp., Henderson, NC: March 8, 2003.

TA-W-54,534; Newton Hardwoods, Madison, ME: March 15, 2003.

TA-W-54,389; Slater Lemont Corp., a subsidiary of Slater Steels Corp., Lemont, IL: February 25, 2003.

TA-W-54,580; Plainsman Hosiery, Inc. Fort Payne, AL: March 15, 2003.

TA-W-54,467; RBX Industries, Inc., Bedford, VA: March 5, 2003.

TA-W-54,582; Missbrenner Wet Printing, Inc., Clifton, NJ: March 24, 2003.

TA-W-54,691; R.A.G.S., Inc., Albemarle, NC: March 31, 2003.

TA-W-54,795; Kawai America Manufacturing, Inc., Lincolnton, NC: April 22, 2003.

TA-W-54,552; ISM Fastening Systems, formerly International Staple and Machine Co., a subsidiary of ISM Investments, Inc., Butler, PA: February 19, 2003.

TA-W-54,730; Manpower, Workers at Johnston Industries, Inc., Dewitt Plant, Dewitt, IA: April 15, 2003.

TA-W-54,743; Acme Pad Corp., Baltimore, MD: April 15, 2003.

TA-W-54,799; Northland Extension Drills, Inc., Grove City, MN: April 27, 2003.

TA-W-54,606; Pride Manufacturing, Inc., a div. of Cintas Corp., Portal, GA: March 15, 2003.

TA-W-54,668; Damy Industries, Inc., Athens, TN: October 23, 2003.

TA-W-54,815; Jami Services Corp., including leased workers of Signum, LLC, Bishopville, SC: April 28, 2003.

TA-W-54,840; Ranco North America, LP, a subsidiary of Invensys, including leased workers of Acloche, Plain City, OH: May 3, 2003.

TA-W-54,820; Moosehead Manufacturing Co., Monson, ME: April 7, 2003.

TA-W-54,549; 3M Precision Optics, Cincinnati, OH: March 18, 2003.

TA-W-54,614; Idra Prince, Holland, Michigan: March 27, 2003.

TA-W-54,658; Whiting Manufacturing Co., Inc., Hazel Green, KY: April 1, 2003.

TA-W-54,651; Excel Dowel Wood Products, Inc., New Portland, ME: March 31, 2003.

The following certifications have been issued. The requirements of (a)(2)(B) (shift in production) of section 222 have been met.

TA-W-54,688; Jabil Circuit, Inc., Auburn Hills Facility, Auburn Hills, MI: April 1, 2003.

TA-W-54,254; Newstech NY, Inc., Deferiet, NY: February 11, 2003.

TA-W-54,630; Osborn International, Brush Div., a div. of Jason, Inc., Cleveland, OH: March 22, 2003.

TA-W-54,619; Agilent Technologies, Wireless Test Equipment Div., Liberty Lake, WA: February 6, 2004.

TA-W-53,905; Finotex U.S.A. Corp., Miami, FL: December 16, 2002.

TA-W-54,697; Plastic Molding Technology, Seymour, CT: April 8, 2003.

TA-W-54,607; Century Fasteners Corp., Workers at SCI Technology, Inc., Enclosure Div., Richmond, KY: March 17, 2003.

TA-W-54,677; Penn Champ, Inc., East Butler, PA: March 31, 2003.

TA-W-54,714; Carbo Minerals, LP, Wrightstown, WI: March 31. 2003.

TA-W-54,473; Atofina Chemicals, Inc., Organic Peroxides Div., Piffard, NY: February 27, 2003.

TA-W-54,308; Invensys, Barber Coleman Dyna Products Div., Including Workers from Furst Staffing, Loves Park, IL: February 11, 2003.

TA-W-54,579; Clayton Marcus Co., Inc., Plant #1, a subsidiary of La-Z-Boy, Hickory, NC: March 16, 2003.

TA-W-54,585; Masterwork Electronics, Inc., Fresno Div., Fresno, CA: March 24, 2003.

TA-W-54,596; Mid-South Electronics, Inc., Raleigh, NC: March 1, 2003.

TA-W-54,687; REHAU, Inc., Springfield, VT: April 1, 2003.

TA-W-54,558; TRW Automotive, North American Braking Div., Sterling Heights, MI: March 15, 2003.

TA-W-54,484A; Cady Industries, Inc., Memphis, TN: March 11, 2003.

TA-W-54,465; Paris Accessories, Inc., Walnutport, PA: March 10, 2003.

TA-W-54,616; B & C Hosiery, Inc., Hosiery Greige Mill Div., Henagar, AL: March 19, 2003.

TA-W-54,669; American Meter Co., Erie, PA: April 2, 2003.

TA-W-54,657; Sterling and Adams Bentwood, Inc., Including leased workers of Carolina Personnel and Atwork Temp Services, Thomasville, NC: March 22, 2003.

TA-W-54,564; Hirsh Industries, Des Moines, IA: March 22, 2003.

TA-W-54,710; Veltri Metal Products, Inc., Celina Tennessee Plant, including leased workers of The Holland Group, and Atwork Cumberland Staffing, Celina, TN: April 12, 2003.

TA-W-54,760; SNC Manufacturing Co., Inc., Oshkosh, WI: April 19, 2003.

TA-W-54,639; PL Subsidiary, Inc., Winder, GA: March 29, 2003.

TA-W-54,676; Ottis Elevator Co., Bloomington Plant, a subsidiary of United Technologies Corp., Bloomington, IN: May 9, 2004.

TA-W-54,711; Stocker Yale, Inc., Salem, NH: April 12, 2003.

TA-W-54,727; Tyco Healthcare Kendall, including leased workers of Keena Staffing Co. and Park Personnel, Argyle, NY: April 14, 2003.

TA-W-54,381, & A; YKK (USA), Inc., Okmulgee Div., a subsidiary of YKK America, Macon, GA and Chesney Div., a subsidiary of YKK America, Macon, GA: March 1, 2003.

TA-W-54,627; CFM Home Products, a div. of CFM U.S. Corp., Ardmore, TN: March 11, 2003.

TA-W-54,644; Celestica, Inc., including leased workers of Adecco Employment Services, Chippewa Falls, WI: March 31, 2003.

TA-W-54,565; Peavey Electronics Corp., Foley Div., Foley, AL: March 15, 2003.

TA-W-54,76 & A; Takata Petri, Inc., Steering Wheel Div., a subsidiary of TK Holdings, Inc., Port Huron, MI and Steering Wheel Frame Div., a subsidiary of TK Holdings, Inc., Port Huron, MI: April 22, 2003.

TA-W-54,477; Simonds International, Kirkland Washington Div., IKS, Inc. and IKS Newco, Inc., Kirkland, WA: March 10, 2003.

TA-W-54,752; Bausch and Lomb, Inc., including leased workers of Kelly Services, Salt Lake City, UT: April 20, 2003.

TA-W-54,655; KF Industries, Inc., Oklahoma City, OK: March 31, 2003.

TA-W-54,842; Chicago Rawhide, a subsidiary of SKF, Franklin, NC: May 4, 2003.

TA-W-54,777; Crown Risdon USA, Inc., Risdon-AMS, Danbury, CT: April 26, 2003.

TA-W-54,757; Vac Magnetics Corp., Elizabethtown, KY: April 14, 2003.

TA-W-54,393 & A; Johnson Controls Interior, Interior Technology Plant, a div. of Johnson Controls, Holland, MI and Cottonwood Plant, a div. of Johnson Controls, Holland, MI: February 24, 2003.

TA-W-54,686; L & L Knitting, Inc., a subsidiary of V.I. Prewett & Son, Inc., Ft. Payne, AL: April 6, 2003.

TA-W-54,590; Medex, Inc., formerly Ethicon Endo-Surgery, a div. of Johnson and Johnson, including leased workers of Kelly Services and Randstad, Southington, CT: March 24, 2003.

TA-W-54,632 & A; Alpine Electronics of America, Inc., Greenwood, IN and McAllen, TX: March 25, 2003.

TA-W-54,734; RR Donnelley Norwest, Inc., including leased workers of Staffmark, Portland, OR: April 15, 2003.

The following certification has been issued. The requirement of upstream supplier to a trade certified primary firm has been met.

TA-W-54,703; Standard Steel, LLC, Latrobe, PA: April 8, 2003.

TA-W-54,533; Brighton Falls Chine, Beaver Falls, PA: February 25, 2003.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)3)ii) have not been met for the reasons specified.

The Department as determined that criterion (1) of section 246 has not been met. Workers at the firm are 50 years of age or older.

TA-W-54,686; L & L Knitting, Inc., a subsidiary of V.I. Prewett & Son, Inc., Ft. Payne, AL.

The Department has determined that criteria (1) and (2) of section 246 have not been met. Workers at the firm are 50 years of age or older. The competitive conditions within the workers' industry is adverse.

TA-W-54,393 & A; Johnson Controls Interior, Interior Technology Plant, a div. of Johnson Controls, Holland, MI and Cottonwood Plant, a div. of Johnson Controls, Holland.

The Department has determined that criterion (2) of section 246 has not been met. Workers at the firm possess skills that are easily transferable.

TA-W-54,651; Excel Dowel Wood Products, Inc., New Portland, ME;

TA-W-54,658; Whiting Manufacturing Co., Inc., Hazel Green, KY;

TA-W-54,614; Idra Prince, Holland, MI;

TA-W-54,549; 3M Precision Optics, Cincinnati, OH;

TA-W-54,820; Moosehead Manufacturing Co., Monson, ME;

TA-W-54,734; RR Donnelley Norwest, Inc., including leased workers of Staffmark, Portland, OR;

TA-W-54,697; Plastic Molding Technology, Seymour, CT;

TA-W-54,632 & A; Alpine Electronics of America, Inc., Greenwood, IN and McAllen, TX;

TA-W-54,590; Medex, Inc., formerly Ethicon Endo-Surgery, a div. of Johnson and Johnson, including leased workers of Kelly Services and Randstad, Southington, CT;

TA-W-54,045; United Steel Corp., Gary Works, Coke Products Div., Gary, IN, A; Gary Works, Iron Producing Div., Gary, IN, B; Gary Works, Steel Producing Div., Gary, IN, C; Gary Works, Hot Rolling Div., Gary, IN, E; Gary Works, Gary Tin Div., Gary, IN, G; Gary Works, Operations Services Div., Gary, IN, H; Gary Works, Staff Group, Gary, IN, I; Gary Works, Administrative Div., Gary, IN and J; East Chicago Tin, East Chicago, IN.

Since the workers are denied eligibility to apply for TAA, the workers cannot be certified eligible for ATAA.

TA-W-54,559; Cequent Trailer Products, formerly Hammerblow Corp., Wausau, WI;

TA-W-54,484; Cady Industries, Inc., Pearson, GA;

TA-W-54,275; Smith Meter, Inc., (also known as FMC Measurement Solutions), a subsidiary of FMC Technologies, Inc., Erie, PA;

TA-W-54,432; American Hofmann Corp., a subsidiary of Hofmann Mondial, Inc., Lynchburg, VA;

TA-W-54,239; Heartland Rig International LLC, Brady, TX;

TA-W-54,618; Dayton Technologies, Wilmington, DE;

TA-W-54,713; Indiana Die Molding LLC, Fort Wayne, IN;

TA-W-54,487; Maple Mountain Industries, Inc., Meyersdale, PA;

TA-W-54,524; Straitoplane, Inc., Grand Rapids, MI;

TA-W-54,624; Belarus Tractor International, Milwaukee, WI;

TA-W-54,524; ADM Milling Co., including leased workers of Cornwell Staffing Services, D.C. Staffing Services and Crown Services, Inc., Milwaukee, WI;

TA-W-54,574; Morgan Construction Co., Worcester, MA;

TA-W-54,733; Bridges Hosiery Mill, Hildebran, NC;

TA-W-54,705; Ozark Iron Works, LLC, (formerly known as Calico Rock Iron Works, Inc.), a div. of Sommer Metalcraft, Calico Rock, AR;

TA-W-54,763; Peterson Spring Co., a subsidiary of Peterson American Corp., Greenville, IL;

TA-W-54,681; 5 B'S, Inc., Cut and Sew Div., Barnesville, OH;

TA-W-54,455; Weirton Steel Corp., Weirton, WV;

TA-W-54,702; Travelocity, Clintwood, VA;

TA-W-54,704; West Telemarketing Corporation Outbound, Smith, AR;

TA-W-54,771; The Penn Traffic Co., Syracuse, NY;

TA-W-54,717; Harris Interactive, Inc., Data Collection Services, Rochester, NY;

TA-W-54,546; United Services Automobile Association Property and Casualty Insurance, Western Regional Office, a div. of The United Services Automobile Association, Sacramento, CA;

TA-W-54,570; Imperial Home Décor Group Holdings, Inc., Knoxville, TN;

TA-W-54,587; Ness U.S.A., Inc., Hackensack, NJ;

TA-W-54,621; Western, a div. of W.P. Industries, Norwalk, CA;

TA-W-54,622; Henderson Sewing Machine Co., Andalusia, AL;

TA-W-54,623; Piedmont Sewing Machine and Supply Corp., Pittsburgh, PA;

TA-W-54,330; Allied Holdings, Inc., Decatur, GA;

TA-W-54,536; Acorn Products Co., Inc., Bridgton, ME;

TA-W-54,626; Distribution Dynamics, Inc., Portland, OR;

TA-W-54,502; Goodrich Corp., Englewood, NJ;

TA-W-54,600; Measurement Specialties, Inc., Consumer Products Div., Fairfield, NJ;

TA-W-54,649; Cigna Healthcare, IT Software Development and Support Div., Hooksett Facility, a div. of The Cigna Corp., Hoodsett, NH;

TA-W-54,375; International Paper Co., Atlantic Region Forest Resources Div., Georgetown, SC;

TA-W-54,431; Dexter Shoe Co., Dexter Maine Plant, Dexter, ME;

TA-W-54,794; Imperial Home Décor, Beachwood, OH;

TA-W-54,343; Kenneth Cole Services, Inc., a div. of Kenneth Cole Productions, Inc., Secaucus, NJ;

TA-W-54,395; Great Lakes Gas Transmission Co., Troy, MI;

TA-W-54,421; Sykes Enterprises, Inc., Ada, OK;

TA-W-54,785; AVX Corp., Advance Planning Administration, Myrtle Beach, SC;

TA-W-54,802; New Roads, Inc., Martinsville, VA;

TA-W-54,762; IntelliRisk Management, Inc., Cedar Falls, IA;

TA-W-54,678; C and L Custom Tooling, LLC, Clackamas, OR;

TA-W-54,526; Elder Manufacturing Co., Inc., Dexter Facility, Dexter, MO;

TA-W-54,739; Robert Bosch Corp., Automotive Chassis Div., St. Joseph, MO;

TA-W-54,453; Agilent Technologies, Inc., Manufacturing Test Business Unit, Loveland, CO;

TA-W-54,112; Allegheny Technologies, Inc., Allvac Div., Monroe, NC;

TA-W-54,633; Philips Consumer Electronics, Business Creation for Projection Television Div., Knoxville, TN;

TA-W-54,670; Pioneer Americas LLC, Henderson Plant, Henderson, NV;

TA-W-54,646; Advanced Glassfiber Yarns, LLC, (also known as AGY Huntingdon, LLC), a div. of AGY Holdings, South Hill, VA;

TA-W-54,045D; United States Steel Corp., Gary Works, Sheet Products Div., Gary, IN;

TA-W-54,045F; United States Steel Corp., Gary Works, Plate Products Div., Gary, IN.

Affirmative Determinations for Alternative Trade Ajdustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-54,687; REGAU, Inc., Springfield, VT: April 1, 2003.

TA-W-54,558; TRW Automotive, North American Braking Div., Sterling Heights, MI: March 15, 2003.

TA-W-54,484A; Cady Industries, Inc., Memphis, TN: March 11, 2003.

TA-W-54,465; Paris Accessories, Inc., Walnutport, PA: March 10, 2003.

TA-W-54,707; Quincy Products, a div. of Valley Industries, Inc., Quincy, MI: April 8, 2003.

TA-W-54,669; American Meter Co., Erie, PA: April 2, 2003.

TA-W-54,616; B & C Hosiery, Inc., Hosiery Greige Mill Div., Henagar, AL: March 19, 2003.

TA-W-54,657; Sterling and Adams Bentwood, Inc., including leased workers of Carolina Personnel and Atwork Temp Service, Thomasville, NC: March 22, 2003.

TA-W-54,452; A.E. Nathan Co., Inc., a div. of Jaftex Corp., Henderson, NC: March 8, 2003.

TA-W-54,534; Newton Hardwoods, Madison, ME: March 15, 2003.

TA-W-54,564; Hirsh Industries, Des Moines, IA: March 22, 2003.

TA-W-54,389; Slater Lemont Corp., a subsidiary of Slater Steels Corp., Lemont, IL: February 25, 2003.

TA-W-54,710; Veltri Metal Products, Inc., Celina Tennessee Plant, including leased workers of The Holland Group, and Atwork Cumberland Staffing, Celina, TN: April 12, 2003.

TA-W-54,760; SNC Manufacturing Co., Inc., Oshkosh, WI: April 19, 2003.

TA-W-54,639; PL Subsidiary, Inc., Winder, GA: March 29, 2003.

TA-W-54,676; Ottis Elevator Co., Bloomington Plant, a subsidiary of United Technologies Corp., Bloomington, IN: May 9, 2004.

TA-W-54,580; Plainsman Hosiery, Inc., Fort Payne, AL: March 15, 2003.

TA-W-54,467; RBX Industries, Inc., Bedford, VA: March 5, 2003.

TA-W-54,582; Missbrenner Wet Printing, Inc., Clifton, NJ: March 24, 2003.

TA-W-54,691; R.A.G.S., Inc., Albemarle, NC: March 31, 2003.

TA-W-54,711; Stocker Yale, Inc., Salem, NH: April 12, 2003.

TA-W-54,703; Standard Steel, LLC, Latrobe, PA: April 8, 2003.

TA-W-54,727; Tyco Healthcare Kendall, including leased workers of Keena Staffing Co., and Park Personnel, Argyle, NY: April 14, 2003.

TA-W-54,795; Kawai America Manufacturing, Inc., Lincolnton, NC: April 22, 2003.

TA-W-54,552; ISM Fastening Systems, formerly International Staple and Machine Co., a subsidiary of ISM Investments, Inc., Butler, PA: February 19, 2003.

TA-W-54,381 & A; YKK (USA), Inc., Okmulgee Div., a subsidiary of YKK America, Macon, GA and Chesney Div., a subsidiary of YKK America, Macon, GA: March 1, 2003.

TA-W-54,627; CFM Home Products, a div. of CFM U.S. Corp., Ardmore, TN: March 11, 2003.

TA-W-54,644; Celestica, Inc., including leased workers of Adecco Employment Services, Chippewa Falls, WI: March 31, 2003.

TA-W-54,730; Manpower, Workers at Johnston Industries, Inc., Dewitt Plant, Dewitt, IA: April 15, 2003.

TA-W-54,565; Peavey Electronics Corp., Foley Div., Foley, AL: March 15, 2003.

TA-W-54,799; Northland Extension Drills, Inc., Grove City, MN: April 27, 2003.

TA-W-54,743; Acme Pad Corp., Baltimore, MD: April 15, 2003.

TA-W-54,769 & A; Takata Petri, Inc., Steering Wheel Div., a subsidiary of TK Holdings, Inc., Port Huron, MI and Steering Wheel Frame Div., a subsidiary of TK Holdings, Inc., Port Huron, MI: April 22, 2003.

TA-W-54,606; Pride Manufacturing, Inc., a div. of Cintas Corp., Portal, GA: March 15, 2003.

TA-W-54,668; Damy Industries, Inc., Athens, TN: October 23, 2003.

TA-W-54,477; Simonds International, Kirkland Washington Div., IKS, Inc. and IKS Newco, Inc., Kirkland, WA: March 10, 2003.

TA-W-54,533; Brighton Falls China, Beaver Falls, PA: February 25, 2003.

TA-W-54,815; Jami Services Corp., including leased workers of Signum, LLC, Bishopville, SC: April 28, 2003.

TA-W-54,752; Bausch & Lomb, Inc., including leased workers of Kelly Services, Salt Lake City, UT: April 20, 2003.

TA-W-54,840; Ranco North America, LP, a subsidiary of Invensys, including leased workers of Acloche, Plain City, OH: May 3, 2003.

TA-W-54,842; Chicago Rawhide, a subsidiary of SKF, Franklin, NC: May 4, 2003.

TA-W-54,655; KF Industries, Inc., Oklahoma City, OK: March 31, 2003.

TA-W-54,777; Crown Risdon USA, Inc., Risdon-AMS, Danbury, CT: April 26, 2003.

TA-W-54,757; Vac Magnetics Corp., Elizabethtown, KY: April 14, 2003.

I hereby certify that the aforementioned determinations were issued during the months of April and May 2004. Copies of these determinations are available for inspection in Room C-5311, U.S. Department of Labor, 200 Constitution Avenue, NW., Washington, DC 20210 during normal business hours or will be mailed to persons who write to the above address.

Dated: May 20, 2004.
Timothy Sullivan,
Director, Division of Trade Adjustment Assistance.

[FR Doc. 04-12388 Filed 6-1-04; 8:45 am]

BILLING CODE 4510-30-P